DEPARTMENT OF THE INTERIOR

Office of the Secretary

[15XD5141GM DGM000000.000000 6100.241A0 DN18000000]

Proposed Appointment to the National Indian Gaming Commission

AGENCY: Office of the Secretary, Interior.

ACTION: Notice.

SUMMARY: The Indian Gaming Regulatory Act provides for a three-person National Indian Gaming Commission. One member, the Chair, is appointed by the President with the advice and consent of the Senate. Two associate members are appointed by the Secretary of the Interior (Secretary). Before appointing members, the Secretary is required to provide public notice of a proposed appointment and allow a comment period. Notice is hereby given of the proposed appointment of Kathryn Isom-Clause as an associate member of the National Indian Gaming Commission for a term of 3 years.

DATES: Submit comments on or before March 9, 2016.

ADDRESSES: Send comments to the Director, Office of the Executive Secretariat and Regulatory Affairs, U.S. Department of the Interior, 1849 C Street NW., Mail Stop 7328, Washington, DC 20240.

FOR FURTHER INFORMATION CONTACT: Mr. Michael Hoenig, National Indian Gaming Commission, c/o Department of the Interior, 1849 C Street NW., Mail Stop 1621, Washington, DC 20240; telephone (202) 632-7003; facsimile (202) 632-7066.

SUPPLEMENTARY INFORMATION: The Indian Gaming Regulatory Act, 25 U.S.C. 2701 et seq., established the National Indian Gaming Commission (Commission), composed of three full-time members. Commission members serve for a term of 3 years. The Chair is appointed by the President with the advice and consent of the Senate. The two associate members are appointed by the Secretary. Before appointing an associate member to the Commission, the Secretary is required to “publish in the Federal Register the name and other information the Secretary deems pertinent regarding a nominee for membership on the Commission and . . . allow a period of not less than thirty days for receipt of public comments.” See 25 U.S.C. 2704(b)(2)(B).

The Secretary proposes to appoint Kathryn Isom-Clause as an associate member of the Commission for a term of 3 years. Ms. Isom-Clause is a citizen of the Taos Pueblo and is well qualified to be a member of the National Indian Gaming Commission by virtue of her extensive background and experience in Indian gaming, as well as a broad spectrum of other Native American issues.

In her current position as Senior Counselor to the Assistant Secretary—Indian Affairs at the Department of the Interior, Ms. Isom-Clause provides policy guidance to the Assistant Secretary on gaming matters, including the review and analysis of revenue allocation plans, tribal-state gaming compacts, and environmental compliance issues. In addition to her work on gaming issues, Ms. Isom-Clause chairs and participates on a number of working groups and committees covering a variety of issues important to Indian Affairs. Before serving as Senior Counselor to the Assistant Secretary—Indian Affairs, Ms. Isom-Clause served as an attorney representing tribal clients throughout the United States.

Ms. Isom-Clause's experience with Indian gaming specifically, as well as her wide experience in Federal Indian law and policy, makes her a highly qualified candidate for membership on the National Indian Gaming Commission. Her extensive knowledge and experience will enrich the Commission's deliberations and contribute to informed decisions that promote the integrity and economic viability of Indian gaming.

Ms. Isom-Clause does not have any financial interests that would make her ineligible to serve on the Commission under 25 U.S.C. 2704(b)(5)(B) or (C).

Any person wishing to submit comments on this proposed appointment of Kathryn Isom-Clause may submit written comments to the address listed above. Comments must be received by March 9, 2016.

Dated: February 2, 2016.
Sally Jewell,
Secretary of the Interior.

[FR Doc. 2016-02349 Filed 2-5-16; 8:45 am]

BILLING CODE 4334-63-P